Presidential Determination No. 2013-15 of September 16, 2013

Provision of Defense Articles and Services to Vetted Members of the Syrian Opposition for Use in Syria To Prevent the Use or Proliferation of Chemical Weapons and Related Materials, Organizations Implementing U.S. Department of State or U.S. Agency for International Development (USAID) Programs Inside or Related to Syria, and International Organizations for Their Use Inside or Related to Syria

Memorandum for the Secretary of State

By the authority vested in me as President by the Constitution and the laws of the United States, including sections 40(g) and 40A(b) of the Arms Export Control Act (AECA), I hereby:

• determine that the transaction, encompassing the provision of defense articles and defense services to vetted members of the Syrian opposition; organizations implementing U.S. Department of State or USAID programs inside or related to Syria; and international organizations necessary for the conduct of their operations inside or related to Syria, or to prevent the preparation, use, or proliferation of Syria's chemical weapons, is essential to the national security interests of the United States;

• waive the prohibitions in sections 40 and 40A of the AECA related to such a transaction; and

• delegate to the Secretary of State the responsibility under section 40(g)(2) of the AECA to consult with and submit reports to the Congress for proposed exports, 15 days prior to authorizing them to proceed, that are necessary for and within the scope of this waiver determination and the transaction referred to herein.

You are authorized and directed to publish this determination in the Federal Register.

THE WHITE HOUSE,

Washington, September 16, 2013.

[FR Doc. 2013-23449

Filed 9-24-13; 8:45 am]

Billing code4710-10